DEPARTMENT OF ENERGY

Federal Energy Regulatory Commission

[Project No. 2058-098]

Avista Corporation; Notice of Application Accepted for Filing, Soliciting Motions To Intervene and Protests, Comments, Recommendations, Terms and Conditions, and Fishway Prescriptions

Take notice that the following hydroelectric application has been filed with the Commission and is available for public inspection:

a. Application Type: Amendment of License.

b. Project No.: 2058-098.

c. Date Filed: November 13, 2017.

d. Applicant: Avista Corporation (licensee).

e. Name of Project: Clark Fork Hydroelectric Project No. 2058.

f. Location: The project is located on the Clark Fork River in Bonner County, Idaho and Sanders County, Montana.

g. Filed Pursuant to: Federal Power Act, 16 U.S.C. 791(a)-825(r).

h. Applicant Contact: Nate Hall, License Manager, Avista Corporation, 94 Avista Power Road, P.O. Box 1469, Noxon, MT 59853; telephone (406) 847-1281; email nate.hall@avistacorp.com.

i. FERC Contact: Marybeth Gay; telephone: (202) 502-6125; email address: Marybeth.gay@ferc.gov.

j. Deadline for filing motions to intervene and protests, comments, recommendations, terms and conditions, and fishway prescriptions is 60 days from the issuance date of this notice by the Commission.

All documents may be filed electronically via the internet. See, 18 CFR 385.2001(a)(1)(iii) and the instructions on the Commission's website at http://www.ferc.gov/docs-filing/efiling.asp. The Commission strongly encourages electronic filing. Please file motions to intervene, protests, comments, recommendations, terms and conditions and fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2058-098.

k. Description of Request: On November 13, 2017, the licensee filed an application to amend its license to construct and operate a permanent upstream fish passage facility at the Cabinet Gorge Hydroelectric Development at the Clark Fork Project in Bonner County, Idaho. The licensee would use this facility to capture and transport native migratory salmonids, with a focus on the federally-listed as threatened bull trout. The proposed fishway would allow the licensee to collect target species at the dam, transport them to an existing fish handling and holding facility for processing, and transport them to tributaries in Montana upstream of the Cabinet Gorge Dam or return them to the Lower Clark Fork River based on genetic assignments or size of the fish. The new facility would be located on the south bank of the Clark Fork River, immediately downstream of the Cabinet Gorge Dam.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title PROTEST, MOTION TO INTERVENE, COMMENTS, RECOMMENDATIONS, TERMS AND CONDITIONS, or FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). All comments, recommendations, terms and conditions, or prescriptions should relate to the proposed amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 22, 2018.
Kimberly D. Bose,
Secretary.

[FR Doc. 2018-01506 Filed 1-25-18; 8:45 am]

BILLING CODE 6717-01-P